DEPARTMENT OF COMMERCE

National Oceanic and Atmospheric Administration

50 CFR Part 679

[Docket No. 111220788-1785-02]

RIN 0648-XA855

Fisheries of the Exclusive Economic Zone Off Alaska; Gulf of Alaska; Final 2011 and 2012 Harvest Specifications for Groundfish

AGENCY: National Marine Fisheries Service (NMFS), National Oceanic and Atmospheric Administration (NOAA), Department of Commerce.

ACTION: Final rule; closures.

SUMMARY: NMFS publishes revisions to the final 2011 and 2012 harvest specifications and prohibited species catch allowances for the groundfish fisheries of the Gulf of Alaska (GOA) that are required by the final rule implementing Amendment 83 to the Fishery Management Plan for Groundfish of the Gulf of Alaska (FMP). This action is necessary to establish harvest limits for Pacific cod at the beginning of the 2012 fishing year consistent with the new Pacific cod sector allocations implemented by Amendment 83 and to accomplish the goals and objectives of the FMP. The intended effect of this action is to conserve and manage the groundfish resources in the GOA in accordance with the Magnuson-Stevens Fishery Conservation and Management Act.

DATES: The final 2011 and 2012 harvest specifications and associated apportionment of reserves are effective at 0001 hrs, Alaska local time (A.l.t.), January 1, 2012, until the effective date of the final 2012 and 2013 harvest specifications for GOA groundfish, which will be published in the Federal Register.

ADDRESSES: Copies of the Final Alaska Groundfish Harvest Specifications Environmental Impact Statement (EIS), 2011 Supplemental Information Report to the EIS, and the Final Regulatory Flexibility Analysis (FRFA) prepared for the final 2011 and 2012 harvest specifications, as well as the Environmental Assessment (EA), Regulatory Impact Review, and FRFA prepared for Amendment 83 to the FMP, may be obtained from the NMFS Alaska Region Web site at http://www.alaskafisheries.noaa.gov. Copies of the 2011 Stock Assessment and Fishery Evaluation report for the groundfish resources of the GOA, dated November 2011, are available from the North Pacific Fishery Management Council at http://www.alaskafisheries.noaa.gov/npfmc.

FOR FURTHER INFORMATION CONTACT: Obren Davis, (907) 586-7228.

SUPPLEMENTARY INFORMATION: Federal regulations at 50 CFR parts 679 and 680 implement the FMP and govern the groundfish fisheries in the GOA. The North Pacific Fishery Management Council (Council) prepared the FMP, and NMFS approved it under the Magnuson-Stevens Fishery Conservation and Management Act. General regulations governing U.S. fisheries also appear at 50 CFR part 600.

The final rule implementing Amendment 83 to the FMP was published in the Federal Register on December 1, 2011 (76 FR 74670) and is effective January 1, 2012. Amendment 83 to the FMP allocates the Western and Central GOA Pacific cod total allowable catch (TAC) limits among various gear and operational sectors. Sector-level allocations will limit the annual amount of Pacific cod that each sector is allowed to harvest. A complete description of the purpose and background of Amendment 83 is in the proposed rule published for that action (76 FR 44700, July 26, 2011), as well as in the final rule noted above.

Amendment 83 to the Gulf of Alaska FMP

Amendment 83 was adopted by the Council in December 2009 to supersede the current inshore/offshore processing allocation of Western and Central GOA Pacific cod. Under the inshore/offshore management regime, 90 percent of the Western, Central, and Eastern TAC is allocated to vessels catching Pacific cod for processing by the inshore component and 10 percent to vessels catching Pacific cod for processing by the offshore component. The inshore component is composed of three types of processors: (1) Shoreside plants, (2) stationary floating processors, and (3) vessels with catcher/processor (C/P) endorsements less than 125 ft (45.7 m) in length overall (LOA) that process less than 126 mt (round weight) per week of inshore pollock and Pacific cod, combined. Catcher vessels operating inshore component use a variety of gear types, and vary widely in size. The offshore component is comprised of C/Ps, which catch and process fish, and motherships, which take deliveries of fish from catcher vessels. The Council recognized that competition among participants in the Western and Central GOA Pacific cod fisheries has intensified in recent years. Because the TACs are not divided among gear or operation types, there is a derby-style race for fish and competition among the various gear types for shares of the Pacific cod TACs.

Amendment 83 divides the Western and Central GOA Pacific cod TACs among various gear and operation types, based primarily on historical dependency and use by each sector, while also considering the needs of fishing communities. Amendment 83 does not establish sector allocations in the Eastern GOA. Historically, the Pacific cod TAC is much smaller in the Eastern GOA management area. In recent years, only a small proportion of the annual TAC has been harvested. Fishing sector characteristics also are different, as fishing with trawl gear is prohibited in the Southeast Outside district of the Eastern GOA. The changes implemented under Amendment 83 are intended to enhance stability in the fishery by enabling operators within each sector to plan harvesting or processing activity during a fishing year, reduce competition among sectors, and preserve the historical division of catch among sectors, while providing opportunities for new entrants in these fisheries.

Revisions to the Final 2011 and 2012 Harvest Specifications for the Gulf of Alaska

Based on the approval of Amendment 83 and its implementing regulations at 50 CFR part 679 (effective January 1, 2012), NMFS is revising the final 2011 and 2012 specifications for Pacific cod in the GOA. In the Central GOA, the annual Pacific cod TAC must be apportioned between vessels using jig gear, catcher vessels (CVs) less than 50 feet length overall using hook-and-line gear, CVs equal to or greater than 50 length overall using hook-and-line gear, catcher/processors (C/Ps) using hook-and-line gear, CVs using trawl gear, C/Ps using trawl gear, and vessels using pot gear. In the Western GOA, the Pacific cod TAC must be apportioned between vessels using jig gear, CVs using hook-and-line gear, C/Ps using hook-and-line gear, CVs using trawl gear, and vessels using pot gear. In the Eastern GOA, the 2012 Pacific cod TAC will still be apportioned seasonally between the inshore and offshore components.

With this final rule, NMFS revises those sections of the text and the tables in the final 2011 and 2012 harvest specifications for groundfish in the GOA (76 FR 11111, March 1, 2011) that change as the result of the final rule implementing Amendment 83. This includes Tables 8, 15, and 18 originally published in the final 2011 and 2012 harvest specifications for the GOA (available at the NMFS, Alaska Region Web site: http://www.alaskafisheries.noaa.gov/frules/76fr11111.pdf). This final rule uses the same table numbers that were used in the final 2011 and 2012 harvest specifications. This action also adds a new table, Table 26, for the new halibut prohibited species catch (PSC) apportionment between hook-and-line CVs and hook-and-line C/Ps that was established as part of Amendment 83.

This final rule is necessary to ensure that appropriate allocations will be in effect for the beginning of the 2012 fishing year for those fishery participants affected by the Pacific cod sector allocations established under Amendment 83. These allocations also will be incorporated in future harvest specification for the Alaska groundfish fisheries.

Allocation of the Pacific Cod TAC

This action revises the Pacific cod allocations in Table 8 by incorporating the sector splits established for the various gear and operational modes in the Western and Central GOA. It eliminates the inshore and offshore sector allocations, with the exception of the Eastern GOA. The Pacific cod TAC in the Eastern GOA will continue to be apportioned to vessels catching Pacific cod for processing by the inshore (90 percent) and offshore (10 percent) components as required by § 679.20(a)(6)(ii).

The Pacific cod TAC for the Western and Central GOA is divided as follows. First, the jig sector receives 1.5 percent of the annual Pacific cod TAC in the Western GOA and 1.0 percent of the annual Pacific cod TAC in the Central GOA, as required by § 679.20(c)(7). This annual allocation is further apportioned between the A season (60 percent) and B season (40 percent) as required by § 679.20(a)(12)(i). NMFS allocates the remainder of the annual Pacific cod TAC based on gear type, operation type, and vessel length overall in the Western and Central GOA seasonally as required by § 679.20(a)(i)(12)(A) and (B). Table 8 lists the seasonal apportionments and allocations of the 2012 GOA Pacific cod TACs.

BILLING CODE 3510-22-P

BILLING CODE 3510-22-C

Non-Exempt American Fisheries Act Catcher Vessel Harvest Limits

This action revises the final 2012 GOA non-exempt American Fisheries Act (AFA) CV groundfish harvest sideboard limits, also known as sideboards. These limits are established by § 679.64. Sideboard limits are necessary to protect the interests of fishermen and processors who do not directly benefit from the AFA from those fishermen and processors who receive exclusive harvesting and processing privileges under the AFA, typically by limiting access to non-pollock groundfish fisheries. AFA CVs are subject to harvesting sideboards unless exempted from such limits through the criteria established in § 679.64(b)(2). Thus, the vessels to which sideboards do apply are known as “non-exempt AFA CVs.”

This action revises the Pacific cod sideboards in Table 15 of the final 2011 and 2012 harvest specifications (76 FR 11111, March 1, 2011). The Pacific cod sideboards are revised by combining the Western and Central GOA inshore and offshore apportionments into a single apportionment, further divided by season. This reduces the number of non-exempt AFA CV sideboards in these two areas to four sideboards, rather than eight prior to Amendment 83. The Eastern GOA Pacific cod sideboards are not revised.

These sideboard revisions are based on changes implemented under Amendment 83. The Council recommended sideboard allocations for the non-exempt AFA CVs and non-AFA crab vessels that now supersede the inshore/offshore processing sideboards established under the AFA and Crab Rationalization Program. These sideboards are calculated annually as part of the harvest specification process. Non-exempt AFA CV sideboards are now calculated as area-specific sideboard accounts, rather than inshore and offshore sideboards in each respective Western and Central GOA regulatory areas. The Council recognized that in recent years the offshore sideboard allocations have not been fully harvested, while inshore allocations are typically fully caught. The intent of combining the two sideboard categories into a single sideboard for each regulatory area is to make the offshore sideboard allocation available to the CVs historically associated with the inshore processing components. The new, combined sideboard amounts will continue to be apportioned seasonally. This action revises only the Pacific cod sideboards in Table 15; however, the entire suite of species and sideboards in the table are re-published in order to eliminate potential confusion that the other sideboards specified in Table 15 are no longer effective.

The following Table 15 replaces Table 15 in the final 2011 and 2012 GOA harvest specifications (76 FR 11111, March 1, 2011).

BILLING CODE 3510-22-P

BILLING CODE 3510-22-C

Non-AFA Crab Vessel Groundfish Harvest Sideboard Limits

This action also revises the final 2012 GOA non-AFA crab vessel groundfish harvest limits. Such limits preclude vessels that benefit from exclusive crab harvesting privileges under the Bering Sea and Aleutian Islands Crab Rationalization Program from expanding their participation in the GOA groundfish fisheries. This action revises the Pacific cod sideboards in Table 18 of the final 2011 and 2012 harvest specifications (76 FR 11111; March 1, 2011). Under Amendment 83 (76 FR 74670, December 1, 2011), the non-AFA crab vessel sideboards for the inshore and offshore components in the Western and Central GOA were combined. These combined sideboards must then be allocated to sectors as required by the final rule implementing Amendment 83. Thus, NMFS must specify revised non-AFA crab vessel sideboard limits in the Western and Central GOA.

The non-AFA crab vessel Pacific cod sideboards are revised by apportioning the Pacific cod sideboards for the Western and Central GOA among gear and operational sectors, as well as seasons. This change eliminates the inshore and offshore area and seasonal apportionments, and replaces them with sector-level area and seasonal apportionments. The Eastern GOA Pacific cod sideboards are not revised, and continue to be apportioned between the inshore and offshore components.

The basis for these sideboard limits is described in detail in the final rules implementing the Crab Rationalization Program (70 FR 10174, March 2, 2005) and Amendment 83 (76 FR 74670, December 1, 2011). Table 18 lists the revised 2012 groundfish sideboard limitations for non-AFA crab vessels. It replaces Table 18 in the final 2011 and 2012 GOA harvest specifications (76 FR 11131-11132, March 1, 2011). All targeted or incidental catch of sideboard species made by non-AFA crab vessels or associated License Limitation Program groundfish licenses will be deducted from these sideboard limits. This action revises only the Pacific cod sideboards in Table 18; however, the entire suite of species and sideboards in the table are re-published in order to eliminate potential confusion that the other groundfish sideboards specified in Table 18 are no longer effective.

BILLING CODE 3510-22-P

BILLING CODE 3510-22-C

Changes to Halibut PSC Apportionments

Section 679.21(d) establishes annual halibut PSC limit apportionments for trawl and hook-and-line gear. The trawl gear apportionment is further divided seasonally and between the deep-water and shallow-water species categories. The hook-and-line gear apportionment is divided seasonally, and also between the demersal shelf rockfish (DSR) fishery and the remaining groundfish fisheries. This action revises the annual hook-and-line gear “other than DSR” halibut PSC limit to the “other hook-and-line fisheries” by dividing the annual halibut PSC limit between the hook-and-line CV and C/P sectors.

This change is intended to increase the ability of each hook-and-line sector to plan its fishing operations and harvest its respective Pacific cod allocation. Apportioning the halibut PSC limit to hook-and-line CV and C/P sectors will prevent one sector from pre-empting the other sector's fishing season by taking a greater proportion of the hook-and-line halibut PSC limit than expected. These PSC apportionments also will apply to hook-and-line CVs and C/Ps operating in the Eastern GOA; however, the halibut PSC limit apportionments only are derived from Pacific cod TAC allocations to the Western and Central GOA. Annually, NMFS will calculate the halibut PSC limit apportionments for the entire GOA to hook-and-line CVs and C/Ps.

This action adds Table 26 to the final 2011 and 2012 harvest specifications to specify new halibut PSC limits by each hook-and-line sector and by season as required by § 679.21(d)(4)(iii)(B). These changes reflect the halibut PSC allocation revisions made under Amendment 83 (76 FR 74670, December 1, 2011), which modified the “other than DSR” hook-and-line halibut PSC apportionment to the “other hook-and-line fisheries” by dividing it between the two hook-and-line sectors. The halibut PSC limit apportioned to the trawl gear sector was not changed by Amendment 83. Comprehensive changes to GOA halibut PSC limits and apportionments currently are under development and consideration by the Council.

A comprehensive description and example of the calculations necessary to apportion the “other than DSR” hook-and-line halibut PSC limit to the “other hook-and-line fisheries” between the hook-and-line CV and C/P sectors was included in the final rule to implement Amendment 83 (76 FR 74670, December 1, 2011) and is not repeated here. For 2012, NMFS is apportioning halibut PSC limits of 167 mt and 123 mt to the hook-and-line CV and hook-and-line C/P sectors, respectively. In addition, these annual limits are divided into three seasonal apportionments, using seasonal percentages of 86 percent, 2 percent, and 12 percent. These annual limits and seasonal apportionments are shown in Table 26, which augments Table 10 in the final GOA harvest specifications (76 FR 11111, March 1, 2011). Table 26 lists the 2012 annual and seasonal halibut PSC apportionments between the hook-and-line sectors in the GOA.

Directed Fishing Closures

Section 680.22 provides for the management of non-AFA crab vessel sideboards using directed fishing closures in accordance with § 680.22(e)(2) and (3). The Regional Administrator has determined that the non-AFA crab vessel sideboards listed in Table 18 are insufficient to support a directed fishery and has set the sideboard directed fishing allowance at zero, with the exception of the Pacific cod pot CV sector limits in the Western and Central Regulatory Areas. Therefore, NMFS is prohibiting directed fishing by non-AFA crab vessels in the GOA for all species and species groups listed in Tables 17 and 18, with the exception of Pacific cod sideboard limits established for the pot CV sector in the Western and Central Regulatory Areas.

Small Entity Compliance Guide

The following information is a plain language guide to assist small entities in complying with this final rule as required by the Small Business Regulatory Enforcement Fairness Act of 1996. This final rule is necessary to revise final 2012 Pacific cod harvest specifications and halibut PSC limits for the groundfish fishery of the GOA so that these amounts are consistent with new fishery allocations and limitations established under Amendment 83. This action affects all fishermen who participate in the Pacific cod fishery in the GOA. The specific amounts of TAC limits and PSC amounts, and respective allocations thereof, are provided in tabular form to assist the reader. NMFS will announce closures of directed fishing in the Federal Register and in information bulletins released by the Alaska Region. Affected fishermen should keep themselves informed of such closures.

Classification

NMFS determined that these revisions to the final 2011 and 2012 harvest specifications are necessary for the conservation and management of the Alaska groundfish fisheries and that it is consistent with the Magnuson-Stevens Fishery Conservation and Management Act and other applicable laws.

This action is authorized under § 679.20 and is exempt from review under Executive Order 12866.

Pursuant to 5 U.S.C. 553(b)(B), the Assistant Administrator for Fisheries, NOAA (AA) finds good cause to waive prior notice and opportunity for public comment on this action as notice and comment is unnecessary. Through this action, NOAA seeks to revise the final 2011 and 2012 GOA harvest specifications consistent with the final rules implementing Amendment 83 to the FMP and to ensure that the Pacific cod allocations and halibut PSC limits implemented under Amendment 83 will be effective at the beginning of the 2012 fishing year. Prior notice and opportunity for public comment on this action is unnecessary because the revisions being made by this action merely update the 2011 and 2012 GOA harvest specifications to reflect allocations and limitations implemented and required by Amendment 83, and which have already been subject to notice and comment.

This action does not revise the final 2011 and 2012 GOA harvest specifications in any substantive manner not previously the subject of notice and comment during the development of Amendment 83. The Pacific cod fisheries in the Western and Central GOA are intensive, fast-paced fisheries. U.S. fishing vessels have demonstrated the capacity to catch the Pacific cod TAC allocations in these fisheries. Any delay in allocating the Pacific cod TACs under Amendment 83 would cause confusion to the industry and potential economic harm through unnecessary discards. Determining which fisheries may close is impossible because these fisheries are affected by several factors that cannot be predicted in advance, including fishing effort, weather, movement of fishery stocks, and market price. Furthermore, the closure of one fishery has a cascading effect on other fisheries by freeing up fishing vessels, allowing them to move from closed fisheries to open ones, increasing the fishing capacity in those open fisheries and causing them to close at an accelerated pace.

In fisheries subject to declining sideboards, a failure to implement the updated sideboards before initial season's end could preclude the intended economic protection to the non-sideboarded sectors. Conversely, in fisheries with increasing sideboards, economic benefit could be precluded to the sideboarded sectors.

The AA also finds good cause to waive the 30-day delay in the effective date requirement of 5 U.S.C. 553(d). The waiver of the 30-day delay in effective date requirement of 5 U.S.C. 553(d) is necessary to ensure that the allocations and limitations required under Amendment 83 will be effective at the beginning of the 2012 fishing year and to provide the regulated community with timely, adequate, and accurate information necessary to allow the industry to plan for the fishing season, to conduct orderly and efficient fisheries, and to avoid potential disruption to the fishing fleet and processors. Per the implementing requirements of Amendment 83 to the GOA FMP (76 FR 74670, December 1, 2011), the Pacific cod TAC apportionments between the inshore and offshore components in the Western and Central Management Areas are superseded and replaced by apportionments among various gear and operational sectors. Absent waiver of the 30-day delay in effective date, the Pacific cod fisheries in the Western and Central Management Areas would be subject to obsolete management measures for a several weeks at the onset of the 2012, as the regulations requiring NMFS to apportion the Pacific cod TAC limits in these two areas to the inshore and offshore components (§ 679.20(a)(6)(ii)) no longer exist as of January 1, 2012.

NMFS prepared a Final EIS for the harvest strategy implemented by the annual harvest specifications and made it available to the public on January 12, 2007 (72 FR 1512). On February 13, 2007, NMFS issued the Record of Decision (ROD) for the Final EIS. Copies of the Final EIS and ROD for this action are available (see ADDRESSES). NMFS also prepared an EA in conjunction with Amendment 83 to the GOA FMP (See ADDRESSES).

Two separate final regulatory flexibility analyses (FRFAs) were prepared to evaluate the impacts on small entities resulting from (1) alternative harvest strategies employed in establishing the final 2011 and 2012 harvest specifications and (2) alternatives considered during the development and approval of Amendment 83. Both of these FRFAs met the statutory requirements of the Regulatory Flexibility Act of 1980, as amended by the Small Business Regulatory Enforcement Fairness Act of 1996 (5 U.S.C. 601-612). A summary of each FRFA was published with its relevant final rule and is not repeated here. The summary of the FRFA supporting the final 2011 and 2012 harvest specifications was published March 1, 2011 (76 FR 11111), and the summary of the FRFA supporting Amendment 83 to the FMP was published December 1, 2011 (76 FR 74670).

Authority: 16 U.S.C. 773 et seq., 1801 et seq., 3631 et seq.; Pub. L. 108-447.

Dated: December 22, 2011.
Samuel D. Rauch III,
Deputy Assistant Administrator for Regulatory Programs, National Marine Fisheries Service.

[FR Doc. 2011-33448 Filed 12-28-11; 8:45 am]

BILLING CODE 3510-22-P